NUCLEAR REGULATORY COMMISSION

[Docket No. 40-8943-MLA; ASLBP No. 07-859-03-MLA-BD01]

Notice of Atomic Safety and Licensing Board Reconstitution: Crow Butte Resources, Inc. (North Trend Expansion Project)

Pursuant to 10 CFR 2.313(c) and 2.321(b), the Atomic Safety and Licensing Board in the above-captioned Crow Butte Resources, Inc. license amendment proceeding is hereby reconstituted by appointing Administrative Judge Craig M. White to serve as a Licensing Board member.¹

¹ Judge White's appointment in this proceeding is necessitated by the recent retirement of Administrative Judge Richard E. Wardwell, who previously served on this Licensing Board.

All correspondence, documents, and other materials shall continue to be filed in accordance with the NRC E-Filing rule. See 10 CFR 2.302 et seq.

Dated: October 10, 2019.
Edward R. Hawkens,
Chief Administrative Judge, Atomic Safety and Licensing Board Panel, Rockville, Maryland.

[FR Doc. 2019-22546 Filed 10-15-19; 8:45 am]

BILLING CODE 7590-01-P